SECURITIES AND EXCHANGE COMMISSION

17 CFR Parts 239 and 274

[Release Nos. 33-8998A; IC-28584A; File No. S7-28-07]

RIN 3235-AJ44

Enhanced Disclosure and New Prospectus Delivery Option for Registered Open-End Management Investment Companies

AGENCY: Securities and Exchange Commission.

ACTION: Final rule; correction.

SUMMARY: In connection with rules adopted in Release No. 33-8998 (January 13, 2009), which appeared in the Federal Register on January 26, 2009 (74 FR 4546), the Securities and Exchange Commission is making technical corrections to Form N-1A and Form N-4. Specifically, the Commission is correcting certain cross-references appearing in each Form and correcting a citation appearing in Form N-1A. The citation being corrected was originally adopted in its incorrect form in Release No. IC-23064 (Mar. 13, 1998), which appeared in the Federal Register on March 23, 1998 (63 FR 13916).

DATES: Effective Date: June 4, 2009.

FOR FURTHER INFORMATION CONTACT: Kieran G. Brown, Senior Counsel, Office of Disclosure Regulation, at (202) 551-6784, Division of Investment Management, Securities and Exchange Commission, 100 F Street, NE., Washington, DC 20549-5720.

SUPPLEMENTARY INFORMATION: The Commission is making the following corrections to Release No. 33-8998 (January 13, 2009), which was published in FR Doc E9-1035 appearing on page 4546 in the Federal Register on January 26, 2009:

Note: The text of the form does not, and these amendments will not, appear in the Code of Federal Regulations.

1. On page 4588, second column, amendment 13, paragraph m.ii., beginning on line four, revise the reference “Items 17(d) and 22(b)” to read “Items 17(d) and 23(b)”.

2. On page 4588, second column, amendment 13, paragraph m.iii., on the second line, revise “reference” to read “references”, and on the third line, revise the reference “Item 22(a)” to read “Item 23(a)”.

3. On page 4593, second column, add amendment 13(a) to read as follows:

13(a). Form N-1A (referenced in §§ 239.15A and 274.11A) is amended by:

a. In the General Instructions, revising the citation “[15 U.S.C. 80a-24f-2]” in paragraph B.3. to read “[15 U.S.C. 80a-24(f)]”; and

b. In newly redesignated Item 17(c)(2), revising the reference “paragraph (d)(1)” to read “paragraph (c)(1)”.

4. On page 4593, second column, amendment 14, beginning on the fourth line and continuing on to the third column, revise the reference “Item 27(b)(ii) of Form N-1A” to read “Item 26(b)(4) of Form N-1A”; in the third column on the third line, revise the reference “Item 27(b)(ii) equation” to read “Item 26(b)(4) equation”; and in the third column on the fourth line, revise the reference “Item 20(b)(ii)” to read “Item 21(b)(ii)”.

Dated: May 28, 2009.
Elizabeth M. Murphy,
Secretary.

[FR Doc. E9-12956 Filed 6-3-09; 8:45 am]

BILLING CODE 8010-01-P